NUCLEAR REGULATORY COMMISSION

[Docket No. 50-461; NRC-2024-0046]

Constellation Energy Generation, LLC; Clinton Power Station, Unit 1; License Renewal Application

AGENCY: Nuclear Regulatory Commission.

ACTION: Notice; receipt.

SUMMARY: The U.S. Nuclear Regulatory Commission (NRC) has received an application for the renewal of Facility Operating License No. NPF-62, which authorizes Constellation Energy Generation, LLC (CEG, the applicant) to operate Clinton Power Station, Unit 1 (CPS). The renewed license would authorize the applicant to operate CPS for an additional 20 years beyond the period specified in the current license. The current operating license for CPS expires April 17, 2027.

DATES: The license renewal application referenced in this document is available on March 7, 2024.

ADDRESSES: Please refer to Docket ID NRC-2024-0046 when contacting the NRC about the availability of information regarding this document. You may obtain publicly available information related to this document using any of the following methods:

• Federal Rulemaking Website: Go to https://www.regulations.gov and search for Docket ID NRC-2024-0046. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• Public Library: A copy of the license renewal application for CPS can be accessed at the following public library: Vespasian Warner Public Library, 310 North Quincy Street, Clinton, IL 61727.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Chris Tyree, Office of Nuclear Reactor Regulation, U.S. Nuclear Regulatory Commission, Washington, DC 20555-0001; telephone: 301-415-3754; email: Christopher.Tyree@nrc.gov.

SUPPLEMENTARY INFORMATION: The NRC has received an application from CEG, dated February 14, 2024 (ADAMS Accession No. ML24045A024) filed pursuant to section 103 of the Atomic Energy Act of 1954, as amended, and part 54 of title 10 of the Code of Federal Regulations, “Requirements for Renewal of Operating Licenses for Nuclear Power Plants,” to renew the operating license for Clinton Power Station, Unit 1 (CPS). Renewal of the license would authorize the applicant to operate the facility for an additional 20-year period beyond the period specified in the current operating license. The current operating license for CPS expires April 17, 2027. Clinton Power Station, Unit 1 is a boiling water reactor located near Clinton, Illinois. The acceptability of the tendered application for docketing, and other matters, including an opportunity to request a hearing, will be the subject of subsequent Federal Register notices.

A copy of the license renewal application for CPS is also available to local residents near the site at the following public library: Vespasian Warner Public Library, 310 North Quincy Street, Clinton, IL 61727.

Dated: March 1, 2024.
For the Nuclear Regulatory Commission.
Lauren K. Gibson,
Chief, License Renewal Project Branch, Division of New and Renewed Licenses, Office of Nuclear Reactor Regulation.

[FR Doc. 2024-04811 Filed 3-6-24; 8:45 am]

BILLING CODE 7590-01-P